DEPARTMENT OF TRANSPORTATION

Federal Aviation Administration

14 CFR Part 39

[Docket No. 2003-SW-11-AD; Amendment 39-13523; AD 2004-05-28]

RIN 2120-AA64

Airworthiness Directives; Eurocopter France Model AS 365 N3 Helicopters

AGENCY: Federal Aviation Administration, DOT.

ACTION: Final rule.

SUMMARY: This amendment adopts a new airworthiness directive (AD) for the specified Eurocopter France (Eurocopter) model helicopters that requires installing a tail rotor blade (blade)-to-torsion bar attachment tuning weight assembly on each blade of the Quiet Fenestron tail rotor and replacing each blade attachment bushing. This amendment is prompted by the discovery of tail rotor induced vibrations during flight tests. The actions specified by this AD are intended to prevent vibration in the tail rotor and the pilot's anti-torque pedals, blade pitch control failure, and subsequent loss of control of the helicopter.

DATES: Effective April 19, 2004.

The incorporation by reference of certain publications listed in the regulations is approved by the Director of the Federal Register as of April 19, 2004.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: A proposal to amend 14 CFR part 39 to include an AD for the specified model helicopters was published in the Federal Register on November 24, 2003 (68 FR 65854). That action proposed to require removing each tail rotor attachment bushing, part number (P/N) 365A33-3530-20, and then installing a blade-to-torsion bar attachment tuning weight assembly, P/N 365A33-3546-00, on each blade of the Quiet Fenestron tail rotor at the same time. Mixing the existing blade attachment bushings, P/N 365A33-3530-20, and the new tuning weight assembly, P/N 365A33-3546-00, on the same tail rotor hub would be prohibited.

The Direction Generale De L'Aviation Civile (DGAC), the airworthiness authority for France, notified the FAA that an unsafe condition may exist on Eurocopter Model AS 365 N3 helicopters. The DGAC advises of a report of the discovery of an increased level of vibration felt by the crew in the pedal units.

Eurocopter has issued Alert Service Bulletin (ASB) No. 64.00.23, dated October 30, 2002, which specifies installing a tuning weight assembly, P/N 365A33-3546-00, on each blade of the Quiet Fenestron tail rotor. Compliance with this ASB requires prior compliance with Eurocopter Service Bulletin 64.00.21, dated November 8, 2000 (modification 0761B23, 0765B35, and 0764B39, 40, 41), which specifies installing a Quiet Fenestron tail rotor, and with Eurocopter Service Bulletin 65.00.14, dated January 7, 2002 (modification 0765B41), which specifies installing a reinforced control shaft on the tail rotor hub control shaft assembly. The DGAC classified these service bulletins as mandatory and issued AD No. 2002-622(A), dated December 11, 2002, to ensure the continued airworthiness of these helicopters in France.

Interested persons have been afforded an opportunity to participate in the making of this amendment. No comments were received on the proposal or the FAA's determination of the cost to the public. The FAA has determined that air safety and the public interest require the adoption of the rule as proposed.

The FAA estimates that this AD will affect 6 helicopters of U.S. registry and the actions will take approximately 8 work hours per helicopter to accomplish at an average labor rate of $65 per work hour. Required parts will cost approximately $3,290, and attaching hardware will cost $40. Based on these figures, we estimate the total cost impact of the AD on U.S. operators to be $3,850 per helicopter, or $23,100 for the entire fleet.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2004-05-28 Eurocopter France: Amendment 39-13523. Docket No. 2003-SW-11-AD.

Applicability: Model AS 365 N3 helicopters, with a Quiet Fenestron tail rotor (tail rotor gearbox, part number (P/N) 365A33-6005-06, and tail rotor hub, P/N 365A33-3500-02), tail rotor hub attachment bushings, P/N 365A33-3530-20, and a reinforced control shaft, P/N 365A33-6214-20, on the tail rotor hub control shaft assembly, installed, certificated in any category.

Compliance: Within 3 months, unless accomplished previously.

To prevent vibration in the tail rotor attachments and the pilot's anti-torque pedals, blade pitch control failure, and subsequent loss of control of the helicopter, accomplish the following:

(a) Install a tail rotor blade (blade)-to-torsion bar attachment tuning weight assembly, P/N 365A33-3546-00, on each blade of the Quiet Fenestron tail rotor in accordance with paragraph 2, Accomplishment Instructions, of Eurocopter France Alert Service Bulletin 64.00.23, dated October 30, 2002. Replace each of the 10 blade attachment bushings, P/N 365A33-3530-20, at the same time. Do not mix the existing blade attachment bushings, P/N 365A33-3530-20, and the new tuning weight assemblies, P/N 365A33-3546-00, on the same tail rotor hub.

(b) To request a different method of compliance or a different compliance time for this AD, follow the procedures in 14 CFR 39.19. Contact the Safety Management Group, Rotorcraft Directortate, FAA, for information about previously approved alternative methods of compliance.

(c) The installations shall be done in accordance with Eurocopter France Alert Service Bulletin 64.00.23, dated October 30, 2002. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(d) This amendment becomes effective on April 19, 2004.

Note: The subject of this AD is addressed in Direction Generale De L'Aviation Civile (France) AD 2002-622(A), dated December 11, 2002.

Issued in Fort Worth, Texas, on March 3, 2004.
Scott A. Horn,
Acting Manager, Rotorcraft Directorate, Aircraft Certification Service.

[FR Doc. 04-5331 Filed 3-12-04; 8:45 am]

BILLING CODE 4910-13-P